DEPARTMENT OF COMMERCE

Foreign-Trade Zones Board

[B-46-2025]

Foreign-Trade Zone (FTZ) 81, Notification of Proposed Production Activity; SubCom, LLC; (Undersea Fiber-Optic Cables and Repeaters); Newington, New Hampshire

SubCom, LLC submitted a notification of proposed production activity to the FTZ Board (the Board) for its facility in Newington, New Hampshire within FTZ 81. The notification conforming to the requirements of the Board's regulations (15 CFR 400.22) was received on November 20, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include undersea fiber-optic cables and undersea repeaters (duty rates are duty-free).

The proposed foreign-status materials/components include: fiber optic components (couplers; pigtails with boot adapter; pigtails with boot gimbal; jumper cables; connectors; connectors with boot; optical components (isolators; thin film filters; switches; circulators; filters; amplifier modules); high-reliability continuous pump lasers; plug attenuators; cooling fans; control card printed circuit boards; fiber adapters; subsea high-voltage power supplies; photodiode sensors; steel components (wire armoring; high strength wire); conductive copper tape; aluminum wires; stainless steel components (machined clamps and rings; machined couplings); and, machined beryllium-copper wedges (duty rate ranges from duty-free to 4.5%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is January 5, 2026.

A copy of the notification will be available for public inspection in the “Online FTZ Information System” section of the Board's website.

For further information, contact Juanita Chen at juanita.chen@trade.gov.

Dated: November 20, 2025.
Elizabeth Whiteman,
Executive Secretary.

[FR Doc. 2025-20938 Filed 11-24-25; 8:45 am]

BILLING CODE 3510-DS-P